DEPARTMENT OF LABOR

Mine Safety and Health Administration

[OMB Control No. 1219-0116]

Proposed Extension of Existing Information Collection; Examinations and Testing of Electrical Equipment, Including High Voltage Longwalls

AGENCY: Mine Safety and Health Administration, Department of Labor.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for 30 CFR 75.351 Atmospheric monitoring systems; 75.512 Electric equipment; examination, testing and maintenance; 75.703 Grounding offtrack direct-current machines and enclosures of related detached components; 75.800-4 Testing, examination and maintenance of circuit breakers; record; 75.820 Electrical work; troubleshooting and testing; 75.821 Testing, examination and maintenance; 75.900-4 Testing, examination and maintenance of circuit breakers; record; 75.1001-1 Devices for overcurrent protection; testing and calibration requirements; records; 77.502 Electric equipment; examination, testing, and maintenance; 77.800-2 Testing, examination and maintenance of circuit breakers; record; and 77.900-2 Testing, examination, and maintenance of circuit breakers; record.

DATES: All comments must be received or postmarked by midnight Eastern Standard Time on April 18, 2011.

ADDRESSES: Comments must be identified clearly with the rule title and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

The respondents for the paperwork provisions of the subject regulations are coal mine operators. The records of tests and examinations are reviewed by coal miners, coal mine officials, and MSHA and State inspectors. The records are intended to verify that examinations and tests were conducted and give insight into the hazardous conditions that have been encountered and those that may be encountered. These records greatly assist those who use them in making decisions during accident investigations to establish root causes and to prevent similar occurrences. These decisions will ultimately affect the safety and health of miners.

Miners examine the records to determine if electric equipment is safe to operate and to determine if reported safety defects have been corrected. Mine officials examine the records to evaluate the effectiveness of their electrical maintenance programs, to determine that the required tests and examinations have been conducted, and to determine if reported safety defects have been corrected. MSHA and State inspectors review the records to determine if the required tests and examinations have been conducted and to identify units of electric equipment that may pose a potential safety hazard, and to evaluate the effectiveness of the coal mine operator's electrical maintenance programs. By comparing the records with the actual condition of electric equipment, MSHA inspectors may, in some cases, be able to identify weaknesses in the coal mine operator's electrical maintenance programs and require that these weaknesses be corrected.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION section of this notice, or viewed on the Internet by selecting “FedReg.Docs” under the “Rules & Regs” section on the right of the homepage. On the next screen, select “Paperwork Reduction Act Supporting Statement” to view documents supporting the Federal Register notice.

III. Current Actions

This notice contains the request for an extension of the existing collection of information in 30 CFR 75.351 Atmospheric monitoring systems; 75.512 Electric equipment; examination, testing and maintenance; 75.703 Grounding offtrack direct-current machines and enclosures of related detached components; 75.800-4 Testing, examination and maintenance of circuit breakers; record; 75.820 Electrical work; troubleshooting and testing; 75.821 Testing, examination and maintenance; 75.900-4 Testing, examination and maintenance of circuit breakers; record; 75.1001-1 Devices for overcurrent protection; testing and calibration requirements; records; 77.502 Electric equipment; examination, testing, and maintenance; 77.800-2 Testing, examination and maintenance of circuit breakers; record; and 77.900-2 Testing, examination, and maintenance of circuit breakers; record. MSHA does not intend to publish the results from this information collection and is not seeking approval to either display or not display the expiration date for the OMB approval of this information collection.

There are no certification exceptions identified with this information collection and the collection of this information does not employ statistical methods.

Type of Review: Extension.

Agency: Mine Safety and Health Administration.

OMB Number: 1219-0116.

Frequency: Daily, weekly, monthly, semi-annually, and on occasion.

Affected Public: Business or other for-profit.

Cost to Federal Government: There is minimal cost to the Government as the records are reviewed during the course of inspections.

Total Burden Respondents: 1,547 per year.

Total Number of Responses: 706,296 per year.

Total Burden Hours: 128,101 hours.

Total Hour Burden Cost (operating/maintaining): $9,703,964 per year.

Comments submitted in response to this notice will be summarized and included in the request for Office of Management and Budget approval of the information collection request; they will also become a matter of public record.

Dated: February 11, 2011.
Roslyn B. Fontaine,
Acting Director, Office of Standards, Regulations and Variances, Certifying Officer.

[FR Doc. 2011-3591 Filed 2-16-11; 8:45 am]

BILLING CODE 4510-43-P